DEPARTMENT OF HEALTH AND HUMAN SERVICES

Administration for Children and Families

[Program Announcements Nos. OCS-2000-01 and OCS-2001-01]

Request for Applications for the Office of Community Services' Fiscal Years 2000 and 2001 Discretionary Grants Program; Correction

AGENCY: Office of Community Services (OCS), ACF, DHHS.

ACTION: Notice; clarification and correction.

SUMMARY: This notice clarifies Program Announcement No. OCS-2000-01 published in the Federal Register on August 19, 1999 (64 FR 45302) and corrects Program Announcement No. OCS-2001-01, published on June 20, 2000 (65 FR 38336). This notice clarifies the Rural Community Facilities Development Program Sub-Priority Area 2.0; it explains what information should have been included in the FY 2000 announcement; and it corrects the error made requesting proposals in the FY 2001 announcement. OCS will not be accepting proposals for FY 2001 under the Rural Community Facilities Development Program—Sub-Priority Area 2.1.

FOR FURTHER INFORMATION CONTACT: Veronica Terrell, Administration for Children and Families, Office of Community Services, 370 L'Enfant Promenade, SW., Washington, DC 20447, Phone: 202-401-5295.

For Fiscal Year (FY) 2000: Program Announcement, OCS-2000-01, issued in the Federal Register on August 19, 1999, the information provided on page 45304 in the last paragraph under 3. Project and Budget Periods, states “For Priority Area 2.0, grantees will be funded for 24 month project periods and 12 month budget periods.” OCS did not mention that the program awardees selected through the competitive process in this round would be awarded a “Non-Competitive Continuation Grant” for FY 2001.

For FY 2001: Program Announcement, OCS-2000-01, issued in the Federal Register on June 20, 2000, OCS makes the following corrections:

1. On page 38338—Under 3. Project and Budget Periods: delete the last paragraph and replace it with the following note:

Note: There will be no new grant awards made in Fiscal Year 2001 under Sub-Priority Area 2.1. In Fiscal Year 2000, certain grantees were awarded grants for 24-month project periods and 12 month budget periods. These grantees will receive the grant funds from this category to supplement their second year of funding.

2. On page 38344—Priority Area 2.0 Rural Community Facilities Development should be corrected as follows:

FY 2001 in the first heading and the first sentence should be revised to “FY 2000.”

The initial 1. should be removed.

The last paragraph should be removed and replaced with a new paragraph to read as follows: “One grant of approximately $300,000 is anticipated to be made under this sub-priority area for FY 2000.

Remove section 2., Rural Community Facilities, in its entirety. OCS does not intend to compete this sub-priority area for FY 2001. The FY 2000 grantees do not have to apply competitively; their FY 2001 grants will be administered as a non-competitive continuation grant action. At an appropriate time, OCS will invite these grantees to submit requests for continuation funding for the balance of their two-year projects, subject to the availability of funds.

Dated: September 29, 2000.
Robert L. Mott,
Deputy Director, Office of Community Services.

[FR Doc. 00-25476 Filed 10-3-00; 8:45 am]

BILLING CODE 4184-01-M